DEPARTMENT OF COMMERCE

International Trade Administartion

[A-570-001]

Potassium Permanganate From the People's Republic of China: Preliminary Results of Antidumping Duty New Shipper Review

AGENCY: Import Administration, International Trade Administration, Department of Commerce.

ACTION: Notice of Preliminary Results of Antidumping Duty New Shipper Review of Potassium Permanganate from the People's Republic of China.

SUMMARY: The Department of Commerce (the Department) is conducting a new shipper review of the antidumping duty order on potassium permanganate from the People's Republic of China (PRC) in response to a request from Groupstars Chemical Co. Ltd. (Groupstars). The review covers the period January 1, 2000 through December 31, 2000. The Department has preliminarily determined that the sale of subject merchandise during the period of review (POR) was made below normal value (NV). If the preliminary results are adopted in our final results of review, we will instruct the U.S. Customs Service (Customs) to assess antidumping duties on the entry under review.

The Department invites interested parties to comment on the preliminary results.

EFFECTIVE DATE: January 3, 2002.

FOR FURTHER INFORMATION CONTACT: John Conniff or Chris Brady, AD/CVD Enforcement, Office 4, Group II, Import Administration, International Trade Administration, U.S. Department of Commerce, 14th Street and Constitution Avenue, NW., Washington, DC 20230; telephone (202) 482-1009 and (202) 482-4406, respectively.

SUPPLEMENTARY INFORMATION:

The Applicable Statute and Regulations

Unless otherwise indicated, all citations to the Tariff Act of 1930, as amended, (the Act) are references to the provisions effective January 1, 1995, the effective date of the amendments made to the Act by the Uruguay Round Agreements Act. In addition, unless otherwise indicated, all citations to the Department's regulations are to the regulations at 19 CFR Part 351 (2000).

Background

On January 31, 1984, the Department published in the Federal Register (49 FR 3897) the antidumping duty order on potassium permanganate from the PRC. On January 30, 2001, in accordance with section 751(a)(2)(B) of the Act and section 351.214 of the Department's regulations, the Department received a timely request from Groupstars to conduct a new shipper review of the antidumping order on potassium permanganate from the PRC.

Section 351.214(b) of the Department's regulations requires that the exporter or producer requesting a new shipper review include the following in its request: (i) A statement from such exporter or producer that it did not export subject merchandise to the United States during the period of investigation (POI); (ii) certification that, since the investigation was initiated, such exporter or producer has never been affiliated with any exporter or producer who exported the subject merchandise to the United States during the POI; (iii) in an antidumping proceeding involving inputs from a non-market economy (NME) country, a certification that the export activities of such exporter or producer are not controlled by the central government; and (iv) documentation establishing: (a) The date on which the subject merchandise was first entered, or withdrawn from warehouse, for consumption, or, if this date cannot be established, the date on which the exporter or producer first shipped the subject merchandise for export to the United States; (b) the volume of that shipment and subsequent shipments; and (c) the date of the first sale to an unaffiliated customer in the United States. Groupstars' new shipper review request was accompanied by information and certifications establishing the date on which the company first shipped and entered potassium permanganate for consumption in the United States, the volume of the shipment, and the date of first sale to an unaffiliated customer in the United States. Also, Groupstars certified that it did not export potassium permanganate from the PRC during the POI and was not affiliated with any company which had exported during the POI. In addition, Groupstars certified that its export activities are not controlled by the PRC's central government.

On February 28, 2001, the Department initiated a new shipper review of Groupstars covering the period January 1, 2000, through December 31, 2000. See Potassium Permanganate From the People's Republic of China: Initiation of Antidumping New Shipper Review, 66 FR 13895 (March 8, 2001). On August 17, 2001, the Department published an extension of the deadline for completion of the preliminary results of this new shipper review until December 25, 2001. See Potassium Permanganate From the People's Republic of China: Extension of Time Limit for Preliminary Results of Antidumping New Shipper Review, 66 FR 43183.

On March 28, 2001, the Department issued its antidumping questionnaire to Groupstars. Groupstars responded to the Department's questionnaire on May 11, 2001 and June 14, 2001. Additionally, Groupstars submitted responses to the Department's May, August and October, 2001 supplemental questionnaires during May, August and October 2001, respectively. On September 28, 2001, the Department provided all interested parties the opportunity to submit any information which they wanted the Department to consider when valuing factors of production (FOP) in this new shipper review. On October 14, 2001, Groupstars submitted publicly available information and comments for consideration in valuing the FOP used in our NV calculations. On October 15, 2001, petitioner also submitted publicly available information and comments for this purpose.

Scope of the Review

Imports covered by this review are shipments of potassium permanganate, an inorganic chemical produced in free-flowing, technical, and pharmaceutical grades. During the review period, potassium permanganate was classifiable under item 2841.60.0010 of the Harmonized Tariff Schedule (HTS). The HTS item number is provided for convenience and Customs purposes. The written description remains dispositive.

Verification

As provided in section 782(i) of the Act, we conducted a verification of the responses of Groupstars. We used standard verification procedures, including on-site inspection of the manufacturer's facilities and examination of relevant sales and financial records. At verification, we found that the Groupstars-Jinan plant, one of the two plants that produced the merchandise which Groupstars sold during the POR, was not operating. Company officials explained that other than producing a portion of the sale under review in July 2000, and 20 metric tons of potassium permanganate in September 2001, one month before verification, the Groupstars-Jinan plant had not produced any potassium permanganate due to problems with machinery. During our tour of the plant, we did not observe any repairs being performed on plant machinery. Moreover, none of the personnel that we interviewed at the plant were able to recall when the plant had last produced potassium permanganate. However, company officials were able to provide documentation to substantiate the FOP reported for the Groupstars-Jinan plant. For the preliminary results, we have used these FOP, as well as the verified FOP for Groupstars' other supplier, to calculate the margin reported in this notice. Complete information regarding our verification results is in our verification reports, which are in the public file of the Central Records Unit (CRU) in room B099 of the main Commerce building.

Affiliation

In its June 18, 2001 submission to the Department, Carus Chemical Company, the petitioner in this proceeding, alleged that Mr. Eugene Ji (also known as Ji Yue Qin), Groupstars' owner during the POR, has had multiple close affiliations with producers and exporters of potassium permanganate covered by the investigation in this proceeding, and therefore, pursuant to section 751(a)(2)(B) of the Act, and section 351.214 of the Department's regulations, Groupstars cannot be considered a new shipper.¹ Specifically, the petitioner alleges that Groupstars is or has been affiliated with investigated producers and exporters from the PRC because in 1992, Mr. Ji formed Waterman Chemical Company Ltd. (Waterman), a U.S. company which attempted to build a potassium permanganate plant in Baton Rouge, Louisiana using PRC equipment and technology from Jinan Tailu, the PRC joint venture that in the mid-1980's took over the Jinan Huaiyin plant, one of the plants that supplied the exporter examined in the original investigation. In addition, the petitioner notes that Groupstars operated and produced potassium permanganate during the POR using the facilities of the former Jinan Huaiyin.

¹ As noted previously, these provisions require that an exporter or producer requesting a review under section 751 (a)(2)(B) of the Act (a new shipper review) must not have been affiliated, within the meaning of section 771(33) of the Act, with any exporter or producer who exported the subject merchandise during the POI.

Based upon the questionnaire responses received from Groupstars, and our verification thereof, we preliminarily determine that Groupstars qualifies for a new shipper review. We have determined that Groupstars made its first sale or shipment of subject merchandise to the United States during the POR, and that it was not affiliated with any exporter or producer that previously shipped to the United States. For a complete discussion of this issue, see the memorandum Whether Groupstars Chemical Co. Ltd. Qualifies as a New Shipper from Holly A. Kuga to Bernard T. Carreau, dated December 26, 2001, which is in the CRU public file.

Separate Rates Determination

In proceedings involving NME countries, the Department begins with a rebuttable presumption that all companies within the country are subject to government control and thus should be assessed a single antidumping duty deposit rate. It is the Department's policy to assign all exporters of merchandise subject to investigation in a NME country this single rate, unless an exporter can demonstrate that it is sufficiently independent so as to be entitled to a separate rate. Groupstars provided the separate rates information requested by the Department and reported that its export activities are not subject to government control.

We examined the separate rates information provided by Groupstars in order to determine whether the company is eligible for a separate rate. The Department's separate rates test which is used to determine whether an exporter is independent from government control does not consider, in general, macroeconomic/border-type controls, e.g., export licenses, quotas, and minimum export prices, particularly if these controls are imposed to prevent dumping. The test focuses, rather, on controls over the investment, pricing, and output decision-making process at the individual firm level. See Certain Cut-to-Length Carbon Steel Plate from Ukraine: Final Determination of Sales at Less than Fair Value, 62 FR 61754, 61757 (November 19, 1997); Tapered Roller Bearings and Parts Thereof, Finished and Unfinished, from the People's Republic of China: Final Results of Antidumping Duty Administrative Review, 62 FR 61276, 61279 (November 17, 1997).

To establish whether a firm is sufficiently independent from government control of its export activities to be entitled to a separate rate, the Department analyzes each entity exporting the subject merchandise under a test arising out of the Final Determination of Sales at Less Than Fair Value: Sparklers from the People's Republic of China, 56 FR 20588 (May 6, 1991) (Sparklers), as amplified by Final Determination of Sales at Less Than Fair Value: Silicon Carbide from the People's Republic of China, 59 FR 22585 (May 2, 1994) (Silicon Carbide). In accordance with the separate rates criteria, the Department assigns separate rates in NME cases only if respondents can demonstrate the absence of both de jure and de facto governmental control over export activities.

1. Absence of De Jure Control

The Department considers the following de jure criteria in determining whether an individual company may be granted a separate rate: (1) An absence of restrictive stipulations associated with an individual exporter's business and export licenses; (2) any legislative enactments decentralizing control of companies; and (3) any other formal measures by the government decentralizing control of companies. See Sparklers, 56 FR at 20508 (May 6, 1991).

Groupstars reported that the subject merchandise was not restricted to any government list regarding export provisions or export licensing, and was not subject to export quotas during the POR. Groupstars submitted copies of its business license in its May 11, 2001 submission. See May 11, 2001 submission at attachment 3. We found no inconsistencies with Groupstars' statement regarding the absence of restrictive stipulations associated with its business license. Groupstars submitted copies of PRC legislation demonstrating the statutory authority for establishing the de jure absence of government control over the company. Thus, we believe that the evidence on the record supports a preliminary finding of de jure absence of governmental control based on: (1) an absence of restrictive stipulations associated with Groupstars' business license; and (2) the applicable legislative enactments decentralizing control of PRC companies.

2. Absence of De Facto Control

The Department typically considers four factors in evaluating whether a respondent is subject to de facto governmental control of its export functions: (1) Whether the export prices are set by or are subject to the approval of a governmental agency; (2) whether the respondent has authority to negotiate and sign contracts and other agreements; (3) whether the respondent has autonomy from the government in making decisions regarding the selection of management; and (4) whether the respondent retains the proceeds of its export sales and makes independent decisions regarding the disposition of profits or financing of losses. See Silicon Carbide, 59 FR at 22586-87 (May 2, 1994); see also Notice of Final Determination of Sales at Less Than Fair Value: Furfuryl Alcohol From the People's Republic of China, 60 FR 22544, 22545 (May 8, 1995).

As stated in previous cases, there is some evidence that certain enactments of the PRC central government have not been implemented uniformly among different sectors and/or jurisdictions in the PRC. See Silicon Carbide, 56 FR at 22587 (May 2, 1994). Therefore, the Department has determined that an analysis of de facto control is critical in determining whether respondents are, in fact, subject to a degree of governmental control which would preclude the Department from assigning separate rates.

Groupstars reported that it determines its prices for sales of the subject merchandise based on the cost of the merchandise, movement expenses, overhead, profit, and the market situation in the United States. Moreover, Groupstars stated that it negotiated the price directly with its customer. Also, Groupstars claimed that its prices are not subject to review or guidance from any governmental organization. In addition, the record indicates that Groupstars has the authority to negotiate and sign contracts and other agreements. Further, Groupstars claimed that its negotiations are not subject to review or guidance from any governmental organization. Finally, there is no evidence on the record to suggest that there is any governmental involvement in the negotiation of contracts.

Furthermore, Groupstars reported that it has autonomy in making decisions regarding the selection of management. Groupstars claimed that its selection of management is not subject to review or guidance from any governmental organization and there is no evidence on the record to suggest that there is any governmental involvement in the selection of Groupstars' management.

Finally, Groupstars reported that it retains the proceeds of its export sales, it uses profits according to its business needs, and its management determines how to allocate profits. There is no evidence on the record to suggest that there is any governmental involvement in decisions regarding disposition of profits or financing of losses. Therefore, we find that the evidence on the record supports a preliminary finding of de facto absence of governmental control based on record statements and supporting documentation showing that: (1) Groupstars sets its own export prices independent of the government and without the approval of a government authority; (2) Groupstars has the authority to negotiate and sign contracts and other agreements; (3) Groupstars has autonomy from the government regarding the selection of management; and (4) Groupstars retains the proceeds from its sales and makes independent decisions regarding the disposition of profits or financing of losses.

The evidence placed on the record of this investigation by Groupstars demonstrates an absence of government control, both in law and in fact, with respect to its exports of the merchandise under investigation, in accordance with the criteria identified in Sparklers and Silicon Carbide. Therefore, for the purposes of this preliminary determination, we are granting a separate rate to Groupstars.

Normal Value Comparisons

To determine whether the respondent's sale of subject merchandise was made at less than normal value, we compared the constructed export price (CEP) to the NV, as described in the Constructed Export Price and Normal Value sections of this notice, below.

Constructed Export Price

For all sales made by Groupstars to the United States, we used CEP in accordance with section 772(b) of the Act. Section 772(b) of the Act defines CEP as the price at which the subject merchandise is first sold in the United States before or after the date of importation, by or for the account of the producer or exporter of the merchandise, or by a seller affiliated with the producer or exporter, to an unaffiliated purchaser, as adjusted under sections 772(c) and (d) of the Act.

We calculated CEP based on the packed prices from Groupstars Chemical L.L.C. (Groupstars LLC) (Groupstars' affiliated U.S. reseller) to the first unaffiliated U.S. customer. We made deductions, where appropriate, from the starting price for foreign inland freight, foreign brokerage and handling, ocean freight, U.S. Customs charges, and U.S. brokerage. Foreign inland freight, foreign brokerage and handling, and ocean freight, were provided by NME vendors, and thus, we based the deductions for these movement charges on surrogate values as discussed below. In accordance with 772(d)(1) of the Act, we deducted from the starting price those selling expenses that related to economic activity in the United States. In accordance with section 772(d)(3) of the Act, we deducted from the starting price an amount for profit. For additional information regarding these adjustments, see the calculation memorandum from John Conniff to the File dated December 26, 2001 which is in the CRU public file.

We valued foreign brokerage and handling using the Indian values that were reported in the public version of the questionnaire response placed on the record in Certain Stainless Steel Wire Rod from India; Final Results of Antidumping Duty Administrative and New Shipper Review, 65 FR 31302 (May 17, 2000). We valued ocean freight using the international freight expense reported in the public version of the questionnaire response that the Viraj Group submitted in the stainless steel wire rod from India review covering the period December 1996 through November 1997. See Certain Stainless Steel Wire Rod from India; Final Results of Antidumping Duty Administrative and New Shipper Reviews 64 FR 856 (January 6, 1999). We identify the source used to value foreign inland freight in the Normal Value section of this notice, below. We accounted for inflation or deflation between the time period that the values for movement charges were in effect and the POR, as described below in the Normal Value section of this notice.

Use of Facts Otherwise Available

Section 776(a)(2) of the Act provides that if an interested party or any other person: “(B) fails to provide such information by the deadlines for the submission of the information or in the form and manner requested, subject to subsections (c)(1) and (e) of section 782 * * * or (D) provides such information but the information cannot be verified as provided in section 782(i), the [Department] * * * shall, subject to section 782(d), use the facts otherwise available in reaching the applicable determination under this title.”

The Department was unable to verify the total amount of indirect selling expenses incurred by Groupstars LLC during the POR. At verification, the Department found that Mr. Ji paid for certain indirect selling expenses incurred on Groupstars LLC's behalf using both his personal funds and the funds of New Phoenix Ltd. (New Phoenix), a company which he wholly owns. See US Verification Report at 8. Thus, not all of Groupstars LLC's indirect selling expenses were reported in the company's financial statement. At verification, Mr. Ji identified certain expenses (e.g., rent) that did not appear on the company's financial statement and provided documents to substantiate the amount of such expenses. In addition, Mr. Ji provided the Department with access to his personal records and the records of New Phoenix. However, the record keeping systems he employed did not allow Department officials to identify which expenses related to Groupstars LLC. Because Groupstars LLC failed to provide the information the Department requested in the form and manner requested, and because we could not verify the information as provided, we find that the use of facts otherwise available is appropriate. As facts available, we allocated a portion of New Phoenix's expenses to Groupstars LLC. For further discussion of this issue, see the calculation memorandum from John Conniff to the File dated December 26, 2001 which is in the CRU public file.

Normal Value

For exports from NME countries, section 773(c)(1) of the Act provides that the Department shall determine NV using a FOP methodology if: (1) the subject merchandise is exported from a NME country, and (2) available information does not permit the calculation of NV using home-market prices, third-country prices, or constructed value pursuant to section 773(a) of the Act. Section 351.408 of the Department's regulations sets forth the methodology used by the Department to calculate the NV of merchandise exported from NME countries. In every case conducted by the Department involving the PRC, the PRC has been treated as a NME. Because none of the parties to this proceeding contested such treatment, we calculated NV in accordance with section 773(c)(3) and (4) of the Act and section 351.408(c) of the Department's regulations.

In accordance with section 773(c)(3) of the Act, the FOP utilized in producing potassium permanganate include, but are not limited to: (1) Hours of labor required; (2) quantities of raw materials employed; (3) amounts of energy and other utilities consumed; and (4) representative capital costs, including depreciation. In accordance with section 773(c)(4) of the Act, the Department valued the FOP, to the extent possible, using the costs of the FOP in a market economy that is (1) at a level of economic development comparable to the PRC, and (2) a significant producer of comparable merchandise. We determined that India is comparable to the PRC in terms of per capita gross national product and the national distribution of labor. Furthermore, India is a significant producer of comparable merchandise. See Memorandum From Jeff May, Director, Office of Policy, to Holly Kuga, Senior Office Director, AD/CVD Enforcement, dated July 31, 2001, which is in the CRU public file.

In accordance with section 773(c)(1) of the Act, for purposes of calculating NV, we attempted to value the FOP using surrogate values that were in effect during the POR. However, when we were unable to obtain surrogate values in effect during the POR, we adjusted the values, as appropriate, to account for inflation or deflation between the effective period and the POR. We calculated the inflation or deflation adjustments for all factor values, except labor, using the wholesale price indices (WPI) for India as published in the International Monetary Fund's (IMF) publication, International Financial Statistics. We valued the FOP as follows:

(1) We valued the direct materials, potassium hydroxide and manganese dioxide using the rupee per metric ton or rupee per kilogram value of imports that entered India during the months of January-February and April-December 2000, as published in the Monthly Statistics of the Foreign Trade of India, Volume II—Imports (Indian Import Statistics).²

² For each of the FOP, we were unable to find Indian import statistics for March 2000.

(2) We valued salt using the rupee per kilogram value of imports that entered India during the months of January-February and April-December 2000, as published in Indian Import Statistics.

(3) We valued coal using the rupee per metric ton or rupee per kilogram value of imports that entered India during the months of January-February and April-December 2000, as published in Indian Import Statistics.

(4) We valued electricity using the 1997 Indian electricity prices for industrial use as reported by the International Energy Agency (IEA), as adjusted for inflation. This rate is available in the IEA publication Energy, Prices and Taxes, 2nd Quarter 2000.

(5) We valued labor using a regression-based wage rate, in accordance with 19 CFR 351.408(c)(3). This rate is identified on the Import Administration's Web site. See http://ia.ita.doc.gov/wages.

(6) We derived ratios for factory overhead, selling, general and administrative (SG&A) expenses, and profit using information reported for 1992-1993 in the Reserve Bank of India Bulletin of January 1997. This is the most recent information that we were able to obtain. Using the information from the Reserve Bank of India Bulletin, we were able to calculate factory overhead as a percentage of direct materials, labor, and energy expenses; SG&A expenses as a percentage of the total cost of manufacturing; and profit as a percentage of the sum of the total cost of manufacturing and SG&A expenses.

(7) We valued packing materials, including pallets and steel drums using the rupee per piece or rupee per kilogram value of imports that entered India during the months of January-February and April-December 2000, as published in Indian Import Statistics.

(8) We used the following sources to value truck and rail freight services incurred to transport the finished product to the port and direct materials, packing materials, and coal from the suppliers of the inputs to Groupstars:

Truck Freight: We valued truck freight services using the 1999 rate quotes reported by Indian freight companies. See Notice of Final Determination of Sales at Less Than Fair Value: Bulk Aspirin From the People's Republic of China, 65 FR 33805 (May 25, 2000).

Rail Freight: We valued rail freight services using the April 1995 rates published by the Indian Railway Conference Association, as adjusted for inflation.

(9) We used the following sources to value ocean freight and marine insurance services incurred to transport the finished product to the port and direct materials, packing materials, and coal from the suppliers of the inputs to Groupstars:

Ocean Freight: We valued ocean freight services using the 1997 rate quotes reported by the Viraj Group in Certain Stainless Steel Wire Rod from India; Notice of Preliminary Results of the Administrative and New Shipper Review, 63 FR 48184.

Marine Insurance: We valued marine insurance using the 1997 rate quotes reported by the Viraj Group in Certain Stainless Steel Wire Rod from India; Notice of Preliminary Results of the Administrative and New Shipper Review, 63 FR 48184. For further discussion of the surrogate values used in this review, see Memorandum From Chris Brady to the File Regarding Surrogate Values Used for the Preliminary Results of the New Shipper Review of Potassium Permanganate from the People's Republic of China, dated December 26, 2001, which is in the CRU public file.

Preliminary Results of Review

As a result of our review, we preliminarily determine that the following weighted-average percentage dumping margin exists for the period January 1, 2000 through December 31, 2000:

Exporter/Manufacturer

Margin (percent)

Groupstars Chemical Co., Ltd.³: 262.90.

³ Although the new shipper review was initiated on Groupstars Chemical Co., Ltd. (“Shandong”) (66 FR 13895, March 8, 2001), it was later clarified by respondent's counsel that the correct name should be Groupstars Chemical Co., Ltd.

The Department will disclose the calculations it performed in this review to the parties in this proceeding within five days of the date of publication of this notice in accordance with 19 CFR 351.224(b).

Any interested party may request a hearing within 30 days of publication of this notice in accordance with section 351.310(c) of the Department's regulations. Any hearing would normally be held 37 days after the publication of this notice, or the first workday thereafter, at the U.S. Department of Commerce, 14th Street and Constitution Avenue NW., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) The party's name, address, and telephone number; (2) the number of participants; and, (3) to the extent practicable, an identification of the arguments to be raised at the hearing. Unless otherwise notified by the Department, interested parties may submit case briefs within 21 days of the date of publication of this notice in accordance with 351.309(c)(ii) of the Department's regulations. As part of the case brief, parties are encouraged to provide a summary of the arguments not to exceed five pages and a table of statutes, regulations, and cases cited. Rebuttal briefs, which must be limited to issues raised in the case briefs, must be filed within five days after the case brief is filed. Further, we would appreciate it if parties submitting written comments would provide the Department with an additional copy of the public version of any such comments on diskette. If a hearing is held, an interested party may make an affirmative presentation only on arguments included in that party's case brief and may make a rebuttal presentation only on arguments included in that party's rebuttal brief. Parties should confirm by telephone the time, date, and place of the hearing 48 hours before the scheduled time.

Assessment

The Department will issue the final results of this new shipper review, which will include the results of its analysis of issues raised in the briefs, within 90 days from the date of this preliminary result, unless the time limit is extended. Upon completion of this new shipper review, the Department shall determine, and the U.S. Customs Service shall assess, antidumping duties on all appropriate entries. The Department will issue appraisement instructions directly to the U.S. Customs Service upon completion of this review. For assessment purposes, we calculated importer-specific assessment rates for potassium permanganate from the PRC. We divided the total dumping margin (calculated as the difference between NV and CEP) for the importer by the entered value of the reviewed sale. Where the importer-specific assessment rate is above de minimis, we will direct U.S. Customs to assess the resulting ad valorem rate against the entered value of the entry of the subject merchandise by that importer during the POR.

Cash Deposit

Furthermore, the following deposit rates will be effective upon publication of the final results of this review for all shipments of potassium permanganate from the PRC entered, or withdrawn from warehouse, for consumption on or after the publication date, as provided for by section 751(a)(2)(C) of the Act: (1) The cash deposit rate for the reviewed firm will be the rate established in the final results of this review; (2) for previously-reviewed PRC and non-PRC exporters with separate rates, the cash deposit rate will be the company-specific rate established for the most recent period; (3) for all other PRC exporters, the rate will be the current PRC-wide rate, 128.94 percent; and (4) for all other non-PRC exporters of subject merchandise from the PRC, the cash deposit rate will be the rate applicable to the PRC supplier of that exporter.

Notification

This notice also serves as a preliminary reminder to importers of their responsibility under Sec. 351.402(f) of the Department's regulations to file a certificate regarding the reimbursement of antidumping duties prior to liquidation of the relevant entries during this review period. Failure to comply with this requirement could result in the Secretary's presumption that reimbursement of antidumping duties occurred and the subsequent assessment of double antidumping duties.

This new shipper review and this notice are published in accordance with sections 751(a)(2)(B) and 777(i)(1) of the Act.

Dated: December 26, 2001.
Richard W. Moreland,
Acting Assistant Secretary, for Import Administration.

[FR Doc. 02-125 Filed 1-2-02; 8:45 am]

BILLING CODE 3510-DS-P